ENVIRONMENTAL PROTECTION AGENCY

[ER-FRL-6622-1]

Environmental Impact Statements; Notice of Availability

Responsible Agency: Office of Federal Activities, General Information (202) 564-7167 or www.epa.gov/oeca/ofa.

Weekly receipt of Environmental Impact Statements.

Filed September 10, 2001 Through September 14, 2001.

Pursuant to 40 CFR 1506.9.

EIS No. 010348, Draft EIS, BLM, NV, Nevada Test and Training Range Resource Management Plan, (formerly known as the Nellis Air Force Range (NAFR), Implementation, Clark, Nye and Lincoln Counties, NV, Comment Period Ends: December 20, 2001, Contact: Jeffy G. Steinmetz (702) 647-5097.

EIS No. 010349, Draft EIS, NOA, MI, Indiana Lake Michigan Coastal Program Document, Federal Approval and Implementation, Coastal Zone Management, Lake, Porter and LaPorte Counties, MI, Comment Period Ends: November 05, 2001, Contact: Diana Olinger (301) 713-3155.

EIS No. 010350, Draft EIS, NOA, Dolphin and Wahoo Fishery Management Plan, Establishing Fishery Management Units, Stock Status Determination and Harvesting Restrictions, Initial Regulatory Flexibility Analysis, South Atlantic, Caribbean, and Gulf of Mexico, Comment Period Ends: November 05, 2001, Contact: Joseph E. Powers (727) 570-5301. This document is available on the Internet at: DEQ: http://www.deq.state.mt.us/eis.asp and KNF: http://www.fs.fed.us/r1/kootenai.

EIS No. 010351, Draft EIS, FHW, IL, Lake County Transportation Improvement Project, To Identify a System of Strategic Roadway, Rail, and Bus Improvements, Transportation Management Strategies, Lake County, IN, Comment Period Ends: November 05, 2001, Contact: Norman R. Stoner (217) 492-4640.

EIS No. 010352, Final EIS, BLM, NM, San Felipe Pueblo Land Exchange, Involves Exchanges Federal Lands to Private Lands, Acquisition, Sandoval and Santa Fe Cos. NM, Wait Period Ends: October 22, 2001, Contact: Debby Lucero (505) 761-8787.

Amended Notices

EIS No. 010319, Draft EIS, DOE, AZ, Umatilla Generating Project, Construction and Operation, Gas-Fired Combined Cycle Electric Power Generation Plant, Nominal Generation Capacity of 550 megawatts (MW) Connection to the Regional Grid at McNary Substation, Umatilla County, AZ, Due: October 15, 2001, Contact: Inez Graetzer (503) 230-3786. Published FR 08-24-01 Correction to the State Coded from OR to AZ.

EIS No. 010327, Final EIS, FHW, NB, Antelope Valley Study, Implementation of Stormwater Management, Transportation Improvements and Community Revitalization, Major Investment Study, City of Lincoln, Lancaster County, NB, Due: October 01, 2001, Contact: Edward Kosola (402) 437-3973. Published FR-08-31-01—Correction to Documents status from Draft to Final which changes the comment period from 45 to 30 wait period.

Dated: September 18, 2001.
Joseph C. Montgomery,
Director, NEPA Compliance Division, Office of Federal Activities.

[FR Doc. 01-23641 Filed 9-20-01; 8:45 am]

BILLING CODE 6560-50-P